DEPARTMENT OF COMMERCE

International Trade Administration

(A-489-805)

Certain Pasta from Turkey: Final Results of Antidumping Duty Administrative Review

AGENCY: Import Administration, International Trade Administration, Department of Commerce.

SUMMARY: On August 6, 2004, the Department of Commerce (the Department) published the preliminary results of the administrative review of the antidumping duty order on certain pasta from Turkey. This review covers two exporters/producers of subject merchandise, Filiz Gida Sanayi ve Ticaret A.S. (Filiz) and Tat Konserve A.S. (Tat), succesor-in-interest to Pastavilla Makarnacilik San. V. Tic. A.S., (Pastavilla). The period of review (POR) is July 1, 2002, through June 30, 2003.

As a result of our analysis of the comments received, these final results differ from the preliminary results. For our final results, we have found that during the POR, Tat and Filiz sold subject merchandise at less than normal value (NV). The final results are listed in the “Final Results of Review” section below.

EFFECTIVE DATE: February 9, 2005.

FOR FURTHER INFORMATION CONTACT: Lyman Armstrong or Eric Greynolds, AD/CVD Operations, Office 3, Import Administration, International Trade Administration, U.S. Department of Commerce, 14th Street and Constitution Avenue, N.W., Washington, D.C. 20230; telephone: (202) 482-3601 or (202) 482-6071, respectively.

SUPPLEMENTARY INFORMATION:

Background

On August 6, 2004, the Department published the preliminary results of its administrative review of the antidumping duty order on pasta from Turkey. See Certain Pasta from Turkey: Notice of Preliminary Results of Antidumping Duty Administrative Review, 69 FR 47876 (August 6, 2004) (Preliminary Results). The review covers two manufacturers/exporters. The POR is July 1, 2002, through June 30, 2003. We invited parties to comment on our preliminary results of review. We only received timely case briefs from Tat and petitioners¹ on September 7, 2004. We received rebuttal briefs from Tat, Filiz, and petitioners on September 13, 2004.² On September 17, 2004, Filiz submitted an untimely case brief, and requested that the Department consider it for these final results. On September 22, 2004, the Department returned Filiz's case brief as untimely filed new factual information pursuant to 19 CFR 351.301 (b)(2). See Letter to the File Re: Removal of Filiz Case Brief, dated September 22, 2004.

¹ Petitioners are New World Pasta Company, Dakota Growers Pasta Company, Borden Foods Corporation and American Italian Pasta Company.

² On September 13, 2004, Filiz filed a rebuttal brief stating that it would not address the issues raised by petitioners in their September 7, 2004 filing because Filiz had already addressed the issues in its case brief. However, Filiz had failed to file the referenced case brief with the Department.

On November 4, 2004, the Department published the notice of extension of final results of the antidumping duty administrative review of pasta from Turkey, extending the date for these final results to February 2, 2005. See Certain Pasta From Turkey: Extension of Final Results of Antidumping Duty Administrative Review, 69 FR 64275 (November 4, 2005).

Scope of Review

Imports covered by this order are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white.

On May 24, 1999, we issued a final scope ruling finding that, effective October 26, 1998, pasta in packages weighing or labeled up to (and including) five pounds four ounces is within the scope of the antidumping and countervailing duty orders. See Memorandum from John Brinkmann, Program Manager, to Richard Moreland, Deputy Assistant Secretary, Concerning Final Scope Ruling, dated May 24, 1999, in the case file in the Central Records Unit, main Commerce building, room B-099 (the CRU).

The merchandise subject to this order is currently classifiable under item 1902.19.20 of the Harmonized Tariff Schedule of the United States (HTSUS). Although the HTSUS subheading is provided for convenience and customs purposes, the written description of the merchandise subject to the order is dispositive.

Analysis of Comments Received

All issues raised in the case and rebuttal brief by parties to this administrative review are addressed in the Issues and Decision Memorandum, which is hereby adopted by this notice. A list of the issues which parties have raised, and to which we have responded in the Issues and Decision Memorandum, is attached to this notice as an Appendix. In addition, a complete version of the Issues and Decision Memorandum can be accessed directly on the Web at http://ia.ita.doc.gov/frn. The paper copy and electronic version of the Decision Memorandum are identical in content.

Changes Since the Preliminary Results

Based on our analysis of comments received, we have made certain changes in the margin calculations. We calculated the export price and NV using the same methodology described in the Preliminary Results, except as follows:

• The Department has corrected a clerical error in order to collapse wheat codes 1 and 2 consistently throughout the program for Filiz and Tat.

• The countervailing duty expense (CVDU) reported by Tat was deleted from the margin calculation program in order to avoid double-counting of this expense.

• The Department has corrected an error in applying the affiliated party test for Tat.

These changes are discussed in the relevant sections of the Decision Memorandum.

Final Results of Review

We determine that the following weighted-average margins exist for the period July 1, 2002, through June 30, 2003:

Manufacturer/exporter | Margin (percent)
Tat | 36.65
Filiz | 17.73

Assessment

The Department shall determine, and U.S. Customs and Border Protection (CBP) shall assess, antidumping duties on all appropriate entries. In accordance with 19 CFR 351.212(b), we have calculated exporter/importer-specific duty assessment rates by aggregating the dumping margins for the examined U.S. sales for each importer and dividing the amount by the total entered value of the sales for that importer. In situations in which the importer-specific assessment rate is above de miminis, we will instruct CBP to assess antidumping duties on that importer's entries of subject merchandise. The Department will issue appropriate assessment instructions directly to CBP within 15 days of publication of these final results of review.

Cash Deposit Requirements

The following deposit requirements will be effective upon publication of this notice of final results of the administrative review for all shipments of certain pasta from Turkey entered, or withdrawn from warehouse, for consumption on or after the date of publication of these final results, as provided by section 751(a)(1) of the Act: (1) The cash deposit rate for the reviewed companies will be the rates shown above, except where the margin is de minimis or zero we will instruct CBP not to collect cash deposits; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 51.49 percent, the “All Others” rate established in the LTFV investigation. See Notice of Antidumping Duty Order and Amended Final Determination of Sales at Less Than Fair Value: Certain Pasta from Turkey, 61 FR 38545 (July 24, 1996). These deposit requirements shall remain in effect until publication of the final results of the next administrative review.

Notification

This notice also serves as a final reminder to importers of their responsibility under 19 CFR 351.402(f) to file a certificate regarding the reimbursement of antidumping duties and/or countervailing duties prior to liquidation of the relevant entries during this review period. Failure to comply with this requirement may result in the Secretary's presumption that reimbursement of antidumping and/or countervailing duties occurred and the subsequent increase in antidumping duties by the amount of antidumping and/or countervailing duties reimbursed.

This notice also serves as a reminder to parties subject to administrative protective order (APO) of their responsibility concerning the disposition of proprietary information disclosed under APO in accordance with 19 CFR 351.305. Timely notification of the return/destruction of APO materials or conversion to judicial protective order is hereby requested. Failure to comply with the regulations and the terms of an APO are sanctionable violations.

We are issuing and publishing this determination and notice in accordance with sections 751(a)(1) and 777(i)(1) of the Act.

Dated: February 2, 2005.
Barbara E. Tillman,
Acting Assistant Secretary for Import Administration.

APPENDIX I

List of Comments and Issues in the Decision Memorandum

I. List of Comments:

Tat Konserve A.S. (Tat)

Comment 1: Whether the Department Should Reject Tat's February 24, 2004, Submission

Comment 2: Calculation Error in Affiliated Party Arm's-Length Test

Comment 3: Whether the Department Should Continue to Collapse Tat's Wheat Codes

Comment 4: Whether the Department Should Correct Tat's Cost Test to Account for Different Levels of Trade

Comment 5: Whether the Department Double-Counted Tat's Countervailing Duties

Comment 6: Modification of Imputed Credit Calculations

Filiz Gida Sanayi ve Ticaret A.S. (Filiz)

Comment 7: The Department Should Continue to Collapse Wheat Codes 1 and 2 But Correct for a Clerical Error

II. Background

III. Wheat Codes

IV. Discussion of Interested Party Comments

[FR Doc. E5-538 Filed 2-8-05; 8:45 am]

BILLING CODE 3510-DS-S